DEPARTMENT OF HEALTH AND HUMAN SERVICES

National Institutes of Health

National Institute of Neurological Disorders and Stroke, Interagency Pain Research Coordinating Committee Call for Working Group Nominations

SUMMARY: The National Institutes of Health and the Interagency Pain Research Coordinating Committee (IPRCC) are seeking nominations for membership of five working groups established to support efforts to create a comprehensive, population health level strategy for pain prevention, treatment, management, and research as recommended in the 2011 Institute of Medicine report titled “Relieving Pain in America: A Blueprint for Transforming Prevention, Care, Education, and Research.”

DATES: Nominations are due by 5 p.m. on March 22, 2013.

ADDRESSES: Nominations must be sent to Linda Porter, Ph.D., NINDS/NIH, 31 Center Drive, Room 8A03, Bethesda, MD 20892, or by email to porterl@ninds.nih.gov. Nominations must include contact information, and a current curriculum vitae or resume.

FOR FURTHER INFORMATION CONTACT: Contact Linda Porter, Ph.D., NINDS/NIH, 31 Center Drive, Room 8A03, Bethesda, MD 20892, porterl@ninds.nih.gov.

SUPPLEMENTARY INFORMATION: The Department of Health and Human Services (Department) has created the Interagency Pain Research Coordinating Committee (IPRCC). As specified in Public Law 111-148 (“Patient Protection and Affordable Care Act”) the Committee will: (a) Develop a summary of advances in pain care research supported or conducted by the Federal agencies relevant to the diagnosis, prevention, and treatment of pain and diseases and disorders associated with pain; (b) identify critical gaps in basic and clinical research on the symptoms and causes of pain; (c) make recommendations to ensure that the activities of the National Institutes of Health and other Federal agencies are free of unnecessary duplication of effort; (d) make recommendations on how best to disseminate information on pain care; and (e) make recommendations on how to expand partnerships between public entities and private entities to expand collaborative, cross-cutting research.

The Office of the Assistant Secretary for Health, Department of Health and Human Services, has charged the IPRCC to create a comprehensive, population health level strategy for pain prevention, treatment, management, and research as recommended in the 2011 Institute of Medicine Report titled “Relieving Pain in America: A Blueprint for Transforming Prevention, Care, Education, and Research.” The National Institutes of Health and the IPRCC are seeking nominations for membership of five working groups established to support efforts to address this charge. The working groups will focus on five defined areas related to pain: (1) Professional education and training, (2) Public education and communication, (3) Public health: care, prevention, and disparities, (4) Public health: service delivery and reimbursement, and (5) Population research.

Membership on the working groups will include representation from the public, scientific community, health care providers, and federal and state agencies with expertise and knowledge appropriate for each group. Members will serve for the duration of the effort to develop the strategic plan. It is anticipated that each working group will meet multiple times over approximately 18 months. Appointment to these working groups shall be made without discrimination on the basis of age, race, ethnicity, gender, sexual orientation, disability, and cultural, religious, or socioeconomic status.

The Department is soliciting nominations for each working group to include non-federal members from among scientists, physicians, and other health professionals and for members of the general public who are representatives of leading research, advocacy, and service organizations for people with pain-related conditions. Nominations for representatives from private insurers, professional accreditation, certification, examination, and licensing organizations also are appropriate for some working groups as are those from state workers' compensation, Medicaid programs, and health departments. More information can be found at http://iprcc.nih.gov.

Dated: February 28, 2013.
Story C. Landis,
Director, National Institute of Neurological Disorders and Stroke, National Institutes of Health.

[FR Doc. 2013-05473 Filed 3-7-13; 8:45 am]

BILLING CODE 4140-01-P